DEPARTMENT OF ENERGY

Federal Energy Regulatory Commission

[Docket No. EL13-21-000]

California Independent System Operator Corporation; Notice Establishing Answer Period to Limited Emergency Protest

On November 16, 2012, JP Morgan Ventures Energy Corp. (JPMVEC) filed a Limited Emergency Protest (Protest) regarding the comment period for the California Independent System Operator Corporation's (CAISO) petition for declaratory order and request for expedited treatment filed on November 16, 2012. (See Notice of Petition for Declaratory Order, November 16, 2012)

Upon consideration, notice is hereby given that the date for filing answers to JPMVEC's Protest is shortened to and including November 20, 2012.

Dated: November 19, 2012.
Nathaniel J. Davis, Sr.,
Deputy Secretary.

[FR Doc. 2012-28549 Filed 11-23-12; 8:45 am]

BILLING CODE 6717-01-P